DEPARTMENT OF THE INTERIOR

Fish and Wildlife Service

50 CFR Part 17

RIN 1018-AG93

Endangered and Threatened Wildlife and Plants; Designation of Critical Habitat for Sidalcea keckii (Keck's checkermallow)

AGENCY: Fish and Wildlife Service, Interior.

ACTION: Proposed rule; notice of availability of draft economic analysis; reopening of comment period.

SUMMARY: We, the U.S. Fish and Wildlife Service (Service) announce the availability of the draft economic analysis for the proposed designation of critical habitat for Sidalcea keckii (Keck's checkermallow) located in Fresno and Tulare Counties, California. We are reopening the comment period for the proposal to designate critical habitat for this species to allow all interested parties to comment simultaneously on the proposed rule and the associated draft economic analysis. Comments previously submitted need not be resubmitted as they will be incorporated into the public record as part of this extended comment period, and will be fully considered in the final rule.

DATES: We will accept comments on both the draft economic analysis and the proposed critical habitat designation until December 2, 2002.

ADDRESSES: Written comments and information should be submitted to the Field Supervisor, Sacramento Fish and Wildlife Office, U.S. Fish and Wildlife Service, 2800 Cottage Way, Suite W-2605, Sacramento, CA 95825. For the electronic mail address, and further instructions on commenting, refer to Public Comments Solicited section of this notice.

FOR FURTHER INFORMATION CONTACT: Susan Moore, at the address above (telephone 916/414-6600; facsimile 916/414-6710).

SUPPLEMENTARY INFORMATION:

Background

Sidalcea keckii (Keck's checkermallow) is an annual herb of the mallow family (Malvaceae) endemic (native and restricted to) the western foothills of the Sierra Nevada mountains in California. It produces bright pink flowers in April and early May, and likely forms a persistent soil seed bank consisting of viable seeds from numerous years. S. keckii was first described in 1940 from samples taken near the town of White River in southern Tulare County, but the plant could not be relocated by botanists for over 50 years. Many botanists had presumed it to be extinct when a new population was discovered near Mine Hill in central Tulare County in 1992. Based on soils information from the new site, surveys were conducted on a previously documented site in the Piedra area of Fresno County, and a population was rediscovered there in 1998. We have recently learned of another population discovered near Piedra in 2002, but we do not yet have details regarding its exact location (John Stebbins, Herbarium Curator, California State University, in litt., 2002). We have also received information that the standing population at Mine Hill may have been extirpated by conversion of the habitat to an orange grove (J. Stebbins, in litt., 2002). Much of the area around the original population at Mine Hill remains potentially viable however, and may contain a seed bank or standing plants.

We listed Sidalcea keckii as an endangered species under the Endangered Species Act of 1973, as amended (Act) (16 U.S.C. 1531 et seq.) on February 16, 2000 (65 FR 7757). On June 19, 2002, we proposed three critical habitat units for the plant totaling approximately 438 hectares (ha) (1,085 acres (ac)) (67 FR 41669). The proposed critical habitat units are located near Piedra in Fresno County, and near Mine Hill and White River in Tulare County. The areas are all privately owned except for 3 ha (7 ac) of Federal land at the Piedra site managed by the U.S. Bureau of Reclamation. Approximately 77 ha (189 ac) of the privately owned land at the Piedra site is on a reserve established by the Sierra Foothill Conservancy for the protection of S. keckii and other rare plants.

Critical habitat receives protection from destruction or adverse modification through required consultation under section 7 of the Act with regard to actions carried out, funded, or authorized by a Federal agency. Section 4(b)(2) of the Act requires that the Secretary of the Interior shall designate or revise critical habitat based upon the best scientific and commercial data available, after taking into consideration the economic impact of specifying any particular area as critical habitat.

The public comment period for the June 19, 2002, proposal originally closed on August 19, 2002. We have prepared a draft economic analysis on the effects of the proposed critical habitat designation, and are now announcing its availability for review. The draft analysis estimates the foreseeable economic impacts of the critical habitat designation on government agencies and private businesses and individuals. Reopening of the comment period will provide the public an opportunity to evaluate and comment on both the proposed rule and the draft economic analysis. Comments already submitted on the proposed designation of critical habitat for Sidalcea keckii do not need to be resubmitted as they will be fully considered in the final determination.

Public Comment Solicited

The final economic analysis concerning the designation of critical habitat for Sidalcea keckii will consider information and recommendations from all interested parties. We will accept written comments and information during this reopened comment period. If you wish to comment, you may submit your comments and materials concerning this proposal by any of several methods:

You may mail or hand-deliver written comments and information to the Field Supervisor, Sacramento Fish and Wildlife Office, U.S. Fish and Wildlife Service, 2800 Cottage Way, Suite W-2605, Sacramento, CA 95825. Hand deliveries must be made during normal business hours.

You may also send comments by electronic mail (e-mail) to fw1kecks_checkermallow@fws.gov.

Hand-delivered or mailed comments and information should be submitted to the Sacramento Fish and Wildlife Office, as found in the ADDRESSES section. Comments and information submitted by e-mail should be addressed to fw1kecks_checkermallow@fws.gov. If you submit comments by e-mail, please submit them as an ASCII file and avoid the use of special characters and any form of encryption. Please also include a return address in your e-mail message. If you do not receive a confirmation from the system that we have received your e-mail message, contact us directly by calling our Sacramento Fish and Wildlife Office at telephone number 916/414-6600, during normal business hours.

We solicit comments or suggestions from the public, other concerned governmental agencies, tribes, the scientific community, industry, or any other interested parties concerning the proposal or the draft economic analysis. We particularly seek comments concerning:

(1) Plans or potential for development within the area proposed to be designated, notwithstanding the comments of the county employee contacted in preparing the economic analysis;

(2) Plans or potential for conversion of land within the area proposed to be designated to other types of agricultural uses, such as vineyards, which might require a permit under section 404 of the Clean Water Act, or other types of Federal permits;

(3) The likelihood of “stigma effects” and costs associated with the designation; and

(4) The likely effects and resulting costs arising from the California Environmental Quality Act and other State laws as a result of the designation.

Comments and materials received, as well as supporting documentation used in preparation of the proposal to designate critical habitat, will be available for inspection, by appointment, during normal business hours at our office listed in the ADDRESSES section. Copies of the draft economic analysis are available on the Internet at www.r1.fws.gov or by writing or calling Susan Moore, at the address or telephone number listed above.

Author

The primary author of this notice is Glen Tarr (see ADDRESSES section).

Authority

The authority for this action is the Endangered Species Act of 1973 (16 U.S.C. 1531 et seq.).

Dated: October 23, 2002.
Paul Hoffman,
Acting Assistant Secretary for Fish and Wildlife and Parks.

[FR Doc. 02-27649 Filed 10-30-02; 8:45 am]

BILLING CODE 4310-55-P